DEPARTMENT OF THE INTERIOR

Bureau of Land Management

[UTU 069197 and UTU 069197A]

Public Land Order No. 7626; Partial Revocation of Public Land Order No. 3480; Utah

AGENCY: Bureau of Land Management.

ACTION: Public Land Order.

SUMMARY: This order partially revokes a Public Land Order insofar as it affects approximately 150 acres of National Forest System lands withdrawn for Birch and Sulphur Campgrounds and South Fork Recreation Area. This order opens the lands to mining.

DATES: Effective Date: April 4, 2005.

FOR FURTHER INFORMATION CONTACT: Marsha Fryer, Forest Service, Intermountain Region, 324-25th Street, Ogden, Utah 84401-2310, 801-625-5802.

SUPPLEMENTARY INFORMATION: The Forest Service has determined that a withdrawal is no longer needed on the lands described in Paragraph 1 and has requested the partial revocation.

Order

By virtue of the authority vested in the Secretary of the Interior by Section 204 of the Federal Land Policy and Management Act of 1976, 43 U.S.C. 1714 (2000), it is ordered as follows:

1. Public Land Order No. 3480, which withdrew National Forest System lands for campgrounds, administrative sites, and other public purposes, is hereby revoked insofar as it affects the following described lands:

Uinta National Forest

Birch Campground

Salt Lake Meridian

T. 7 S., R. 4 E.,

Sec. 26, N½SW¼NW¼ and SW¼SW¼NW¼;

Sec. 27, SE¼SE¼NE¼

Sulphur Campground

T. 7 S., R. 4 E.,

Sec. 27, SW¼SE¼NE¼ and SE¼SW¼NE¼ (part of lot 1)

Ashley National Forest

South Fork Recreation Area

Uintah Special Meridian

T. 2 N., R. 7 W.,

Sec. 20, S½NE¼SE¼, NE¼SW¼SE¼, NW¼SE¼SE¼, and S½SE¼SE¼;

Sec. 21, SW¼NW¼SW¼ and W½SW¼SW¼

The areas described aggregate approximately 150 acres in Duchesne and Utah Counties.

2. At 10 a.m. on April 4, 2005, the lands described in Paragraph 1 will be opened to location and entry under the United States mining laws, subject to valid existing rights, the provisions of existing withdrawals, other segregations of record, and the requirements of applicable law. Appropriation of these lands under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: February 11, 2005.
Rebecca W. Watson,
Assistant Secretary—Land and Minerals Management.

[FR Doc. 05-4149 Filed 3-2-05; 8:45 am]

BILLING CODE 3410-11-P